FEDERAL MARITIME COMMISSION

Ocean Transportation Intermediary License Reissuances

The Commission gives notice that the following Ocean Transportation Intermediary licenses have been reissued pursuant to section 19 of the Shipping Act of 1984 (46 U.S.C. 40101).

License No.: 017719F.

Name: Sunjin Shipping (U.S.A.), Inc.

Address: 145-30 156th Street, Jamaica, NY 11434.

Date Reissued: December 1, 2013.

License No.: 023040N.

Name: Pegasus Worldwide Logistics, Inc.

Address: 2660 East Del Amo Blvd., Carson, CA 90221.

Date Reissued: December 2, 2013.

License No.: 023807F.

Name: Alpha Florida Trade, LLC.

Address: 2930 NW 108th Avenue, Doral, FL 33172.

Date Reissued: January 31, 2014.

Sandra L. Kusumoto,
Director, Bureau of Certification and Licensing.

[FR Doc. 2014-05637 Filed 3-13-14; 8:45 am]

BILLING CODE 6730-01-P